DEPARTMENT OF ENERGY

Federal Energy Regulatory Commission

[Docket Nos. CP06-354-000; CP06-401-000; CP06-423-000]

Rockies Express Pipeline, LLC; TransColorado Gas Transmission Company; Questar Overthrust Pipeline Company; Notice of Availability of the Final Environmental Impact Statement for the Rockies Western Phase Project

March 16, 2007.

The staff of the Federal Energy Regulatory Commission (FERC or Commission) has prepared a final Environmental Impact Statement (EIS) for the construction and operation of the natural gas pipeline facilities proposed by Rockies Express Pipeline LLC (Rockies Express), TransColorado Gas Transmission Company (TransColorado), and Questar Overthrust Pipeline Company (Overthrust) in the above-referenced dockets. These individual project sponsors have submitted separate and distinct proposals to the Commission; however, the FERC views the proposed facilities as interconnected projects that are necessary components of a larger, combined natural gas transportation system. As such, all three project proposals have been included in the final EIS, and are collectively referred to as the Rockies Western Phase Project (or the Project). The Project facilities would be located in Colorado, Wyoming, Nebraska, Kansas, Missouri, and New Mexico.

The final EIS was prepared to satisfy the requirements of the National Environmental Policy Act (NEPA) and the Federal Land Management and Policy Act. The U.S. Bureau of Land Management (BLM) and U.S. Fish and Wildlife Service (FWS) are federal land management agencies with lands affected by this proposal and are cooperating agencies for the development of the EIS. A cooperating agency has jurisdiction by law or special expertise with respect to potential environmental impacts associated with the proposal, and is involved in the NEPA analysis. The Project would cross federal land under the jurisdiction of the BLM Rawlins, Kemmerer, and Rock Springs Field Offices. Lands administered by the FWS would also be crossed by the Project. Under section 185(f) of the Mineral Leasing Act of 1920, the BLM has the authority to issue Right-of-Way Grants for all affected federal lands.

The FERC staff has concluded that if the Project is constructed and operated in accordance with applicable laws and regulations, and each project sponsor's proposed mitigation, and the staffs' additional mitigation recommendations, it would have limited adverse environmental impact and would be an environmentally acceptable action.

As currently proposed, the Rockies Western Phase Project would consist of the construction and operation of approximately 795.6 miles of natural gas pipeline and a total of 237,320 horsepower of new compression. Following completion of the proposed facilities, the Project would transport up to 1.5 billion cubic feet of natural gas per day. Specifically, the final EIS addresses the potential environmental effects of the construction and operation of the following natural gas pipeline facilities proposed by Rockies Express, TransColorado, and Overthrust:

Rockies Express (REX-West Project)

• 712.7 miles of 42-inch-diameter natural gas pipeline in Wyoming, Colorado, Nebraska, Kansas, and Missouri;

• 5.3 miles of 24-inch-diameter pipeline (Echo Springs Lateral) in Sweetwater and Carbon Counties, Wyoming;

• Five new compressor stations (Cheyenne Compressor Station in Weld County, Colorado; Julesburg Compressor Station in Sedgwick County, Colorado; Echo Springs Compressor Station in Sweetwater County, Wyoming; the Steele City Compressor Station in Gage County, Nebraska; and Turney Compressor Station in Clinton County, Missouri);

• Four new compressor units at two previously certificated compressor stations (Meeker Compressor Station in Rio Blanco County, Colorado and Wamsutter Compressor Station in Sweetwater County, Wyoming); and

• 8 new meter stations, 41 mainline valves, and associated facilities.

TransColorado (Blanco to Meeker Project)

• 392 feet of discharge line and 478 feet of suction line, 1,300 feet of 24-inch-diameter pipeline, and 60 feet of 16-inch-diameter pipeline in San Juan County, New Mexico;

• Two new compressor stations (Blanco Compression Station in San Juan County, New Mexico and the Conn Creek Compressor Station in Garfield County, Colorado);

• Modifications at four existing compressor stations (Mancos Compressor Station in Montezuma County, Colorado; Redvale Compressor Station in Montrose County, Colorado; Whitewater Compressor Station in Mesa County, Colorado, and the Greasewood Compressor Station in Rio Blanco County, Colorado); and

• One new meter station, one mainline valve, and associated facilities.

Overthrust (Wamsutter Expansion Project)

• 77.2 miles of 36-inch-diameter natural gas pipeline in Sweetwater County, Wyoming;

• 0.1 mile of 20-inch-diameter pipeline (TL-90 Tie-in);

• Two new compressor stations in Wyoming (Roberson Compressor Station in Lincoln County and Rock Springs Compressor Station in Sweetwater County); and

• Two new meter stations, three mainline valves, and associated facilities.

The final EIS has been placed in the public files of the FERC and is available for distribution and public inspection at: Federal Energy Regulatory Commission, Public Reference Room, 888 First Street, NE., Room 2A, Washington, DC 20426, (202) 502-8371.

CD-ROM copies of the final EIS have been mailed to federal, state, and local agencies; public interest groups; individuals and affected landowners who requested a copy of the final EIS or provided comments during scoping; libraries and newspapers in the Project area; and parties to this proceeding. Hard copy versions of the final EIS were mailed to those specifically requesting them. A limited number of hard copies and CD-ROMs are available from the Public Reference Room identified above.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Philis J. Posey,
Acting Secretary.

[FR Doc. E7-5200 Filed 3-21-07; 8:45 am]

BILLING CODE 6717-01-P